ENVIRONMENTAL PROTECTION AGENCY

[FRL—11696-01-OA]

Meeting of the Local Government Advisory Committee's Small Communities Advisory Subcommittee

AGENCY: Environmental Protection Agency (EPA).

ACTION: Notification of public meeting.

SUMMARY: Pursuant to the Federal Advisory Committee Act (FACA), EPA hereby provides notice of a meeting of the Local Government Advisory Committee (LGAC) and its Small Community Advisory Subcommittee (SCAS) on the dates and times described below. These meetings will be open to the public. For information on public attendance and participation, please see the registration information under SUPPLEMENTARY INFORMATION.

DATES: The SCAS will meet virtually February 9th, 2024, starting at 1 p.m. through 2 p.m. Eastern Standard Time. The LGAC will have a virtual meeting February 15th, from 2:30-4 p.m. Eastern Standard Time.

FOR FURTHER INFORMATION CONTACT: Paige Lieberman, Designated Federal Officer (DFO) of the Local Government Advisory Committee, at LGAC@epa.gov or 202-564-9957 or Lynzi Barnes, DFO of the Small Community Advisory Subcommittee, at barnes.edlynzia@epa.gov or (773) 638-9158.

Information on Accessibility: For information on access or services for individuals requiring accessibility accommodations, please send an email to LGAC@epa.gov. To request accommodation, please do so five (5) business days prior to the meeting, to give EPA as much time as possible to process your request.

SUPPLEMENTARY INFORMATION: Content: The SCAS will review draft recommendations from the LGAC involving the Lead and Copper Rule Improvements. The SCAS will deliberate and provide additional feedback to the LGAC recommendations before they are finalized. The LGAC will discuss recommendations on the Lead and Copper Rule Improvements with a goal to finalize and send to the EPA Administrator. The LGAC will also receive a new charge from EPA's Office of Environmental Justice and External Civil Rights. Meeting materials and recommendations will be posted online closer to the meeting dates.

Registration: Both meetings will be held virtually through Microsoft Teams. Members of the public who wish to participate should register by contacting Paige Lieberman, Designated Federal Officer (DFO) of the Local Government Advisory Committee, at LGAC@epa.gov or 202-564-9957 or Lynzi Barnes, DFO of the Small Community Advisory Subcommittee, at barnes.edlynzia@epa.gov or (773) 638-9158 within 24 hours of the meeting start time. The agenda and other supportive meeting materials will be available online at https://www.epa.gov/ocir/local-government-advisory-committee-lgac and can be obtained by written request to the DFO. In the event of cancellation for unforeseen circumstances, please contact the DFO or check the website above for reschedule information.

Edlynzia Barnes,
Designated Federal Officer, Office of Congressional and Intergovernmental Relations.

[FR Doc. 2024-01779 Filed 1-29-24; 8:45 am]

BILLING CODE 6560-50-P